DEPARTMENT OF TRANSPORTATION

Federal Motor Carrier Safety Administration

[Docket No. FMCSA-2007-29254]

Minimum Age for Operating a Commercial Motor Vehicle (CMV) in Interstate Commerce: Jcrane, Inc. (Jcrane), Application for Exemption

AGENCY: Federal Motor Carrier Safety Administration (FMCSA), DOT.

ACTION: Notice of application for exemption; request for comments.

SUMMARY: The FMCSA announces that it has received from Jcrane, Inc. (Jcrane) an application for an exemption from provisions of the Federal Motor Carrier Safety Regulations that require an individual who operates a commercial motor vehicle (CMV) of 10,001 or more pounds Gross Vehicle Weight Rating (GVWR) in interstate commerce to be a minimum of 21 years of age. The exemption would allow Jcrane's employees who are not yet 21 years of age to legally operate a CMV in interstate commerce. Jcrane states that the granting of the exemption would allow the company to better train crane operators and therefore increase overall safety. The FMCSA requests public comment on Jcrane's application for exemption.

DATES: Comments must be received on or October 22, 2007.

ADDRESSES: You may submit comments identified by DOT DMS Docket Number FMCSA-2007-29254 using any of the following methods:

If filing comments by September 27, 2007, please use:

• Web site: http://dms.dot.gov. Follow the instructions for submitting comments on the Department of Transportation Docket Management System electronic docket site. No electronic submissions will be accepted between September 28, 2007, and October 1, 2007.

If filing comments on or after October 1, 2007, use:

• Federal eRulemaking Portal: Go to http://www.regulations.gov. Follow the online instructions for submitting comments.

Alternatively, you can file comments using the following methods:

• Mail: Docket Management Facility: U.S. Department of Transportation, 1200 New Jersey Avenue, SE., West Building Ground Floor, Room W12-140, Washington, DC 20590-0001.

• Hand Delivery or Courier: West Building Ground Floor, Room W12-140, 1200 New Jersey Avenue, SE., between 9 a.m. and 5 p.m. ET, Monday through Friday, except Federal holidays.

• Fax: 202-493-2251.

Docket: For access to the docket to read background documents or comments received, go to http://dms.dot.gov until September 27, 2007, or the street address listed above. The DOT docket may be offline at times between September 28 through September 30 to migrate to the Federal Docket Management System (FDMS). On October 1, 2007, the internet access to the docket will be at http://www.regulations.gov. Follow the online instructions for accessing the dockets.

Privacy Act: Note that all comments received will be posted without change to http://www.dms.dot.gov or http://www.regulations.gov, including any personal information provided. Anyone may search the electronic form of all comments received into any of DOT's dockets by the name of the individual submitting the comment (or of the person signing the comment, if submitted on behalf of an association, business, labor union, or other entity). You may review DOT's complete Privacy Act Statement in the Federal Register published on April 11, 2000 (65 FR 19477, Apr. 11, 2000).

FOR FURTHER INFORMATION CONTACT:

Mr. Thomas Yager, Chief, FMCSA Driver and Carrier Operations Division, Office of Bus and Truck Standards and Operations: Telephone: 202-366-4009. E-mail: MCPSD@fmcsa.dot.gov.

SUPPLEMENTARY INFORMATION:

Background

Section 4007 of the Transportation Equity Act for the 21st Century (Pub. L. 105-178, 112 Stat. 107, June 9, 1998) amended 49 U.S.C. 31315 and 31136(e) to provide authority to grant exemptions from motor carrier safety regulations. Under its regulations, FMCSA must publish a notice of each exemption request in the Federal Register (49 CFR 381.315(a)). The Agency must provide the public an opportunity to inspect the information relevant to the application, including the conducting of any safety analyses. The Agency must also provide an opportunity for public comment on the request.

The Agency reviews the safety analyses and the public comments, and determines whether granting the exemption would likely achieve a level of safety equivalent to, or greater than, the level that would be achieved by the current regulation (49 CFR 381.305). The decision of the Agency must be published in the Federal Register (49 CFR 381.315(b)) with the reason for denying or, in the alternative, the specific person or class of persons receiving the exemption, and the regulatory provision or provisions from which exemption is granted. The notice must also specify the effective period of the exemption (up to 2 years), and explain the terms and conditions of the exemption. The exemption may be renewed (49 CFR 381.300(b)).

Application for Exemption

Jcrane is a crane rental service located in southwest Ohio. It currently has nine full-time employees with commercial driver's licenses (CDLs), and operates three tractor-trailers and five mobile cranes. The tractor-trailers are support vehicles for the cranes and are driven by apprentices or individuals who are in the process of learning to operate cranes. These apprentice drivers are normally in the 18-23 year age range. According to Jcrane, this is the ideal age range to begin operator training. As a crane-support truck driver, these individuals haul counterbalance weights for the crane on a flatbed trailer. The drivers will follow a crane from the home base to a different jobsite every day, set the crane up, wait for the crane to make the lift, tear the crane down, and follow it back to the shop. These drivers never travel alone, are home every night, and do not haul goods owned by other people. Jcrane's operating area is generally within a 200-mile radius of their home base in Covington, Ohio. Due to their location, they never service the northeast corner of Ohio, but do a lot of work in eastern Indiana. Under Ohio law, their 18-20 year old apprentices may legally drive a truck from Covington, Ohio to Cleveland, Ohio—which is 5 hours northeast of their home terminal; however, they may not drive to Richmond, Indiana, which is approximately 1-hour west, due to FMCSA's prohibition against drivers under the age of 21 operating in interstate commerce in 49 CFR 391.11(b)(1).

Jcrane requests an exemption for their employees under the age of 21 to be able to legally operate their equipment and tractor-trailers across state borders, however not outside of a 200-mile radius from their home terminal in Covington, Ohio. Jcrane states that, because they are located more than 200 miles from the eastern Ohio border, this exemption would not change the maximum distance that these drivers can travel and therefore would have no effect on safety. This exemption would, however, according to Jcrane, allow it to better train crane operators and therefore increase overall safety.

Jcrane requests that the exemption from § 391.11(b)(1) be in effect for a period of two years from the date of issue. A copy of Jcrane Inc.'s exemption application is in the docket identified for this notice.

Request for Comments

In accordance with 49 U.S.C. 31315(b)(4) and 31136(e), FMCSA requests public comment on Jcrane Inc.'s application an exemption from 49 CFR 391.11(b)(1). The Agency will consider all comments received by close of business on October 22, 2007. Comments will be available for examination in the docket at the location listed under the ADDRESSES section of this notice. The Agency will file comments received after the comment closing date in the public docket, and will consider them to the extent practicable.

Larry W. Minor,
Associate Administrator for Policy and Program Development.

[FR Doc. E7-18628 Filed 9-20-07; 8:45 am]

BILLING CODE 4910-EX-P